DEPARTMENT OF HOMELAND SECURITY

Coast Guard

[USCG-2003-14888]

Merchant Marine Personnel Advisory Committee

AGENCY: Coast Guard, DHS.

ACTION: Notice of meetings.

SUMMARY: A subcommittee of the Merchant Marine Personnel Advisory Committee (MERPAC) will meet to discuss a specific task statement relating to the training of merchant-marine personnel. MERPAC advises the Secretary of the Department of Homeland Security on matters relating to the training, qualifications, licensing, certification, and fitness of seamen serving in the U.S. merchant marine. All meetings will be open to the public.

DATES: The MERPAC subcommittee will meet on Wednesday, April 30, 2003, and on Thursday, May 1, 2003, from 9 a.m. to 5 p.m. These meetings may adjourn early if all business is finished. Requests to make oral presentations, written material for distribution, and requests for distribution of this material all should reach the Coast Guard on or before April 23, 2003.

ADDRESSES: MERPAC will meet on both days in Room FOB-90 of the Old Federal Building located at 909 1st Avenue, Seattle, WA 98104. Further directions regarding the location of the Old Federal Building may be obtained by contacting the Property Management Office at (206) 220-5055. Send written material and requests to make oral presentations to Commander Brian J. Peter, Commandant (G-MSO-1), U.S. Coast Guard Headquarters, 2100 Second Street, SW., Washington, DC 20593-0001. We request that members of the public who plan to attend this meeting notify Mr. Mark Gould at 202-267-6890 or by e-mail at mgould@comdt.uscg.mil so that he may notify building security officials. In order to gain entry to the Old Federal Building, you will be required to show a valid Federal or State picture identification card. This notice is available on the Internet at http://dms.dot.gov.

FOR FURTHER INFORMATION CONTACT: For questions on this notice, contact Commander Brian J. Peter, Executive Director of MERPAC, or Mr. Mark C. Gould, Assistant to the Executive Director, telephone 202-267-6890, fax 202-267-4570, or the e-mail address under ADDRESSES.

SUPPLEMENTARY INFORMATION: Notice of these meetings is given under the Federal Advisory Committee Act, 5 U.S.C. App. 2. Agenda of Meetings on April 30 and May 1, 2003:

The subcommittee will meet to discuss Task Statement 36: Recommendations on a Training Program for Officers in Charge of an Engineering Watch (OICEW) Coming Up Through the Hawsepipe. The subcommittee will develop recommendations and a proposed training program to be used by a mariner entering the maritime industry after August 1, 1998, who participates in an approved program of study, other than a State or Federal maritime academy. The recommendations and proposed training program will be forwarded to the full MERPAC for consideration and possible adoption at the next regular meeting.

Procedural

Both meetings are open to the public. Please note that the meetings may adjourn early if all business is finished. At the Chair's discretion, members of the public may make oral presentations during the meetings. If you would like to make an oral presentation at a meeting, your request should reach the Executive Director no later than April 23, 2003. Written material for distribution at a meeting should reach him no later than April 23, 2003. If you would like a copy of your material distributed to each member of the subcommittee in advance of the meeting, please submit 25 copies to him no later than April 23, 2003.

Information on Services for Individuals With Disabilities

For information on facilities or services for individuals with disabilities or to request special assistance at the meetings, contact the Assistant Executive Director as soon as possible.

Dated: April 8, 2003.
Joseph J. Angelo,
Director of Standards, Marine Safety, Security & Environmental Protection.

[FR Doc. 03-9648 Filed 4-17-03; 8:45 am]

BILLING CODE 4910-15-P